DEPARTMENT OF AGRICULTURE

Forest Service

Information Collection; Campfire Permit

AGENCY: Forest Service, USDA.

ACTION: Notice; request for comment.

SUMMARY: In accordance with the Paperwork Reduction Act of 1995, the Forest Service is seeking comments from all interested individuals and organizations on the new information collection, Campfire Permit.

DATES: Comments must be received in writing on or before May 27, 2008 to be assured of consideration. Comments received after that date will be considered to the extent practicable.

ADDRESSES: Comments concerning this notice should be addressed to Jason Kirchner, Public Affairs Staff, U.S. Forest Service Pacific Southwest Region, 1323 Club Drive, Vallejo, CA 94592.

Comments also may be submitted via facsimile to (707) 562-9053 or by e-mail to: jdkirchner@fs.fed.us.

The public may inspect comments received at the Forest Service's Pacific Southwest Regional Office during normal business hours. Visitors are encouraged to call ahead to (707) 562-9014 to facilitate entry to the building.

FOR FURTHER INFORMATION CONTACT: Jason Kirchner, Pacific Southwest Region, (707) 562-9014. Individuals who use telecommunication devices for the deaf (TDD) may call the Federal Relay Service (FRS) at 1-800-877-8339 twenty-four hours a day, every day of the year, including holidays.

SUPPLEMENTARY INFORMATION: Title: California Campfire Permit.

OMB Number: 0596-New.

Type of Request: New.

Abstract: The issuance of the California Campfire Permit by Forest Service and Bureau of Land Management offices in California is a requirement resulting from a formal agreement with the State of California. The agreement outlines fire management responsibilities for each party and results in enhanced cooperation for fire suppression and fire prevention activities across agency boundaries throughout the state. California State law requires individuals to possess a permit to light, maintain, or use a campfire on the property of another person and also requires individuals to obtain a campfire permit issued under U.S. Forest Service authority for campfires on National Forest System lands. As part of a formal agreement with the State, the U.S. Forest Service, Bureau of Land Management, and the California Department of Forestry and Fire Protection have agreed to issue an interagency campfire permit that meets the intent of the State law.

California Public Resources Code 4433:

Permits Required. A person shall not light, maintain, or use a campfire upon any brush-covered land, grass-covered land, or forest-covered land which is the property of another person unless he first obtains a written permit from the owner, lessee, or agent of the owner or lessee of the property.

If, however, campsites and special areas have been established by the property owner and posted as areas for camping, a permit is not necessary.

A written campfire permit duly issued by or under the authority of the United States Forest Service is necessary for use on land under the jurisdiction and control of the United States Forest Service.

Issuance of the California Campfire Permit will occur in every Forest Service, Bureau of Land Management, and CAL FIRE office in the State that is open to the public. The permit is required for any individual that intends to make a campfire on National Forest System lands or Bureau of Land Management lands. Only one permit is required per year per person. The permit requires individuals to provide their name and address, which is used by designated law enforcement officials to verify that the permit belongs to a responsible individual that is present at a campfire. The information is not otherwise used or maintained for any purpose by the Forest Service or Bureau of Land Management.

The California Campfire Permit is a valuable fire prevention tool that provides firefighting organizations in California an opportunity to educate members of the public on safe and responsible campfire use, and allows agencies to personally provide fire prevention messages to every individual that intends to build or maintain a campfire in the state. Without the Forest Service and Bureau of Land Management participating in the distribution of this permit, those agencies would lose an important fire prevention tool while making it impossible for individuals to comply with state law due to the language in the state law requiring a campfire permit to be issued under U.S. Forest Service authority for campfires on National Forest System lands.

Estimate of Annual Burden: 5 minutes.

Type of Respondents: Individuals.

Estimated Annual Number of Respondents: 250,000.

Estimated Annual Number of Responses per Respondent: 1.

Estimated Total Annual Burden on Respondents: 20,833 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

March 20, 2008.
Robin L. Thompson,
Associate Deputy Chief, State & Private Forestry.

[FR Doc. E8-6039 Filed 3-25-08; 8:45 am]

BILLING CODE 3410-11-P